DEPARTMENT OF HEALTH AND HUMAN SERVICES

Centers for Disease Control and Prevention

[30Day-20-20AZ]

Agency Forms Undergoing Paperwork Reduction Act Review

In accordance with the Paperwork Reduction Act of 1995, the Centers for Disease Control and Prevention (CDC) has submitted the information collection request titled Evaluation of the Effectiveness of the Training and Education Modules in the North American Fatigue Management Program to the Office of Management and Budget (OMB) for review and approval. CDC previously published a “Proposed Data Collection Submitted for Public Comment and Recommendations” notice on November 4, 2019 to obtain comments from the public and affected agencies. CDC received one comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Evaluation of the Effectiveness of the Training and Education Modules in the North American Fatigue Management Program—New—National Institute for Occupational Safety and Health (NIOSH), Centers for Disease Control and Prevention (CDC)

Background and Brief Description

The mission of the National Institute for Occupational Safety and Health (NIOSH) is to promote safety and health at work for all people through research and prevention. Reducing fatigue-related crashes is one of the top 10 changes needed to reduce transportation accidents and save lives identified by the National Transportation Safety Board (NTSB) and a National Occupational Research Agenda (NORA) priority. Fatigue is a preventable cause of crashes.

The North American Fatigue Management Program (NAFMP) was developed by the FMCSA, Transport Canada, and other entities to address commercial motor vehicle (CMV) driver fatigue through a comprehensive approach that delivers prevention information to carriers, dispatchers, drivers, and family members. In 2015, the National Academy of Sciences published the report “Commercial motor vehicle driver fatigue, long-term health, and highway safety research needs” that identified the need for fully evaluating the NAFMP so that recommendations for implementation of NAFMP are supported by scientific evidence. NIOSH is collaborating with the FMCSA to ensure the success of the proposed study.

NIOSH will recruit two commercial vehicle carriers, and CMV drivers, hereafter referred to as “drivers”, employed by those carriers. Data will be collected during drivers' application to participate in the study, briefing session, study participation, and debriefing session. Data collection will primarily focus on driving performance, sleep, and sleepiness. These outcomes will be compared between pre-rollout of the NAFMP (in which drivers will operate as they did before their participation in the study) and after the rollout of the NAFMP training and education modules (in which drivers and managers will operate with increased knowledge, strategies, and techniques to reduce their fatigue). All drivers interested in participating in the study may complete the application. A briefing session will be scheduled with drivers who are found eligible for the study. During the briefing session, drivers who provide informed consent will be enrolled in the study. Drivers will have a debriefing session if a driver chooses to withdraw from the study early or upon completion of the 8-month participation period.

Drivers who have a valid Class-A commercial driver's license (CDL) and work at the participating company in regional and long-haul operations for at least one year will be eligible for the study. A convenience sample of 180 eligible drivers will be recruited to participate in the study. The study sample will include approximately 90 regional and 90 long-haul drivers. There will be no required minimum number of female or minority drivers.

Data will be collected during each phase: (1) In the application, drivers will be asked to provide their name and contact information (home address, telephone number, and email address) to allow contact from the research team regarding their eligibility for the study. (2) In the briefing session, drivers will be asked to complete the Background Questionnaire. (3) During the study, information collection will occur through several streams: (a) A real-time fatigue monitoring system installed in the participating driver's vehicle; (b) Smart phone apps to collect data from a psychomotor vigilance test, the Karolinska Sleepiness Scale, a sleep log, a difficulty of drive scale, a degree of drive hazards scale, a fatigue scale, and a stress scale; (c) an electronic logging device which will record information about the driver's hours of service and driving; (d) a wrist actigraphy device to collect data on driver sleep and wake times. Drivers will be asked to synchronize the actigraph with a smartphone app daily; (e) smartphone or web-based questionnaires including an Exercise and Food Consumption Questionnaire, the quality of life short form 36 version-2 questionnaire (SF-36v2), Family Interactions Questionnaire, and Job Descriptive Index. These will be completed by drivers at four different intervals, including the beginning (1st week) and middle (2nd month) of the baseline phase, and the middle (5th month) and end (8th month) of the intervention phase; (f) A questionnaire to assess corporate practices and corporate safety climate will be given to managers at the participating carriers. These will be completed by managers at the beginning (1st week) of the study and end (8th month) of the intervention phase; and (g) During the field study, carriers will be asked to provide information concerning crashes and roadside violations occurring during each driver's period of study participation. Administrative cost information (e.g., equipment, labor, etc.) will also be collected from the carrier to evaluate cost-benefit of the intervention.

OMB approval is requested for two years. Participation is voluntary and there are no costs to respondents other than their time. The total estimated annualized burden is 5,278 hours.

Estimated Annualized Burden Hours
Type of respondent | Form name | Number of respondents | Number of responses per respondent | Average burden per response (in hours)
Carrier Management | Participation Agreement | 1 | 1 | 1
| Retrieval of Company Monthly Roadside Violations/Crash Reports | 1 | 8 | 90/60
| Retrieval of Company Administrative Costs | 1 | 16 | 2
| Management Practice questionnaire (Time 1) | 5 | 1 | 45/60
| Management Practice questionnaire (Time 2) | 5 | 1 | 45/60
Drivers | Application to Participate | 150 | 1 | 12/60
| Actigraph Training | 90 | 1 | 10/60
| Background Questionnaire | 90 | 1 | 45/60
| Daily Smartphone Questions | 90 | 720 | 1/60
| PVT | 90 | 720 | 3/60
| Exercise and Food Consumption Questionnaire | 90 | 4 | 20/60
| SF-36v2 | 90 | 4 | 30/60
| Family Interactions Questionnaire | 90 | 4 | 15/60
| Safety Climate Questionnaire | 90 | 4 | 10/60
| Job Descriptive Index | 90 | 4 | 30/60
| Post-Study Questionnaire | 90 | 1 | 1
| Phone Briefings | 90 | 8 | 6/60

Jeffrey M. Zirger,
Lead, Information Collection Review Office, Office of Scientific Integrity, Office of Science, Centers for Disease Control and Prevention.

[FR Doc. 2020-18994 Filed 8-27-20; 8:45 am]

BILLING CODE 4163-18-P